DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on September 15-16, 2008, in room 230 at the Department of Veterans Affairs, 810 Vermont Avenue, NW., Washington, DC. The sessions will start at 8 a.m. each day. The sessions will end at 5 p.m. on September 15 and at 2 p.m. on September 16. The meeting will be open to the public

The purpose of the Committee is to provide advice and make recommendations to the Secretary of Veterans Affairs on proposed research studies, research plans and research strategies relating to the health consequences of military service in the Southwest Asia theater of operations during the Gulf War.

The Committee will review VA program activities related to Gulf War veterans' illnesses and updates on relevant scientific research published since the last Committee meeting. Additionally, there will be presentations and discussion of background information on the Gulf War and Gulf War veterans' illnesses, mechanisms potentially underlying chronic symptoms affecting Gulf War veterans, neurologic illnesses affecting Gulf War veterans, and discussion of Committee business and activities. The Committee will also present its 2008 report and recommendations.

The meeting will include time reserved for public comments. A sign-up sheet for five-minute comments will be available at the meeting. Individuals who speak are invited to submit 1-2 page summaries of their comments at the time of the meeting for inclusion in the official meeting record. Members of the public may also submit written statements for the Committee's review to Dr. Roberta White, Chair, Department of Environmental Health, Boston University School of Public Health, 715 Albany St., T2E, Boston, MA 02118.

Any member of the public seeking additional information should contact Dr. William Goldberg, Designated Federal Officer, at (202) 461-1667, or Dr. White, Scientific Director, at (617) 638-4620.

Dated: August 19, 2008.
By Direction of the Secretary.
E. Philip Riggin,
Committee Management Officer.

[FR Doc. E8-19616 Filed 8-22-08; 8:45 am]

BILLING CODE 8320-01-P